ENVIRONMENTAL PROTECTION AGENCY

[ER-FRL-9005-9]

Environmental Impacts Statements; Notice of Availability

Responsible Agency: Office of Federal Activities, General Information (202) 564-7146 or http://www.epa.gov/compliance/nepa/.

Weekly Receipt of Environmental Impact Statements

Filed 10/29/2012 Through 11/02/2012 Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: As of October 1, 2012, EPA will not accept paper copies or CDs of EISs for filing purposes; all submissions on or after October 1, 2012 must be made through e-NEPA.

While this system eliminates the need to submit paper or CD copies to EPA to meet filing requirements, electronic submission does not change requirements for distribution of EISs for public review and comment. To begin using e-NEPA, you must first register with EPA's electronic reporting site— https://cdx.epa.gov/epa_home.asp.

EIS No. 20120352, Final EIS, USFS, UT, Chicken Creek Gypsum Mine, Proposed Plan of Operations to Conduct Mining Operations, San Pitch Mountains, Sanpete Ranger District, Manti-La Sal National Forest, Juab County, UT, Review Period Ends: 12/10/2012, Contact: Karl Boyer 435-637-2817.

EIS No. 20120353, Final EIS, FHWA, IL, TIER 2—Elgin O'Hare—West Bypass, Extending the Planning Period from 2030 to 2040, Federal Approvals and Funding, Cook and DuPage Counties, IL, Review Period Ends: 12/10/2012, Contact: Norman Stoner 217-492-4600 The U.S. Department of Transportation's Federal Highway Administration and Federal Aviation Administration are joint lead agencies for this project.

EIS No. 20120354, Draft EIS, FRA, 00, Chicago to Council Bluffs—Omaha Regional Passenger Rail System Planning Study Tier 1 Service Level, from Chicago, Illinois through Iowa and Omaha, NE., Comment Period Ends: 12/26/2012, Contact: Andrea Martin 202-493-6201.

EIS No. 20120355, Final EIS, FRA, 00, Chicago to St. Louis High Speed Rail Program Tier 1, Improvements, Several Counties, IL and St. Louis County, MO, Review Period Ends: 12/10/2012, Contact: Andrea Martin 202-493-6201.

EIS No. 20120356, Draft EIS, BLM, AZ, Sun Valley to Morgan 500/230kV Transmission Line Project and Draft Resource Management Plan Amendment, Maricopa County, AZ, Comment Period Ends: 02/08/2013, Contact: Joe Incardine 801-560-7135.

EIS No. 20120357, Final Supplement, USFWS, CA, Translocation of Southern Sea Otters (Enhydra lutris nereis) Program, New and Updated Information, Santa Barbara, Ventura, Los Angeles, Orange, and San Diego Counties, CA, Review Period Ends: 12/10/2012, Contact: Lilian Carswell 805-644-1766.

EIS No. 20120358, Draft Supplement, BOEM, 00, Gulf of Mexico Outer Continental Shelf (OCS) Oil and Gas Lease Sales: 2013-2014 Western Planning Area Lease Sales 233: Central Planning Area Lease Sales 231, Comment Period Ends: 12/24/2012, Contact: Gary D. Goeke 504-736-3233.

EIS No. 20120359, Final EIS, USACE, CA, Clearwater Program, Master Facilities Plan, To Meet the Wastewater Management Needs of the Joint Outfall System (JOS) Through the Year 2050, Los Angeles County, CA, Review Period Ends: 12/10/2012, Contact: Aaron O. Allen 805-585-2148.

EIS No. 20120360, Final EIS, BLM, 00, PROGRAMMATIC—Allocation of Oil Shale and Tar Sands Resources on Lands Administered, Propose to Amend 10 Land Use Plans in Colorado, Utah, and Wyoming, Review Period Ends: 12/10/2012, Contact: Sherri Thompson 303-239-3758.

Amended Notices

EIS No. 20120294, Draft EIS, USN, OR, Naval Weapons Systems Training Facility Boardman, Military Readiness Activities, OR, Comment Period Ends: 12/06/2012, Contact: Amy Burt 360-396-0924.

Dated: November 6, 2012.
Cliff Rader,
Director, NEPA Compliance Division, Office of Federal Activities,

[FR Doc. 2012-27404 Filed 11-8-12; 8:45 am]

BILLING CODE 6560-50-P